DEPARTMENT OF THE INTERIOR

Bureau of Land Management

[LLWYRO5000. L16100000. DX0000]

Notice of Proposed Supplementary Rules for Travel Management Limitations on Public Lands in Fremont County, Wyoming

AGENCY: Bureau of Land Management, Interior.

ACTION: Notice of proposed supplementary rules.

SUMMARY: The Bureau of Land Management (BLM) is proposing supplementary rules for public lands included in the Lander Approved Resource Management Plan and Record of Decision (Lander RMP) dated June 26, 2014. The proposed rules would implement decisions found in the Lander RMP relating to the use of motorized and non-motorized vehicles.

DATES: Comments on the proposed supplementary rules must be received or postmarked by November 8, 2016 to be assured of consideration. Comments received, postmarked, or electronically dated after that date will not necessarily be considered in the development of final supplementary rules.

ADDRESSES: Please mail or hand deliver all comments concerning the proposed supplementary rules to Kristin Yannone, Planner, BLM Lander Field Office, 1335 Main Street, Lander, WY 82520.

FOR FURTHER INFORMATION CONTACT:

• Visit www.blm.gov/wy/st/en/field_offices/Lander/implementation.html;

• Send an email to blm_wy_lrmp_wymail@blm.gov; or

• Contact Kristin Yannone, Planner, either by mail at the BLM Lander Field Office, 1335 Main Street, Lander, WY 82520 or by phone at 307-332-8400.

Persons who use a telecommunications device for the deaf may call the Federal Information Relay Service (FIRS) at 800-877-8339 to contact Ms. Yannone. The FIRS is available 24 hours a day, seven days a week. You will receive a reply during normal business hours.

SUPPLEMENTARY INFORMATION: The public is invited to provide comments on these proposed supplementary rules. See DATES and ADDRESSES for information on submitting comments. Written comments on the proposed supplementary rules should be specific, confined to issues pertinent to the proposed supplementary rules and explain the reason for any recommended change. Comments requesting changes to decisions in the Lander RMP are outside the scope of this rulemaking.

Where possible, comments should reference a specific provision of these proposed supplementary rules. The BLM need not consider or include in the administrative record: (a) Comments that the BLM receives after the close of the comment period (see DATES), unless they are postmarked or electronically dated before the deadline, or (b) comments delivered to an address other than that listed above (see ADDRESSES).

Comments, including names, street addresses, and other contact information of respondents, will be available for public review at the BLM Lander Field Office during regular business hours, Monday through Friday, except Federal holidays. Before including your address, telephone number, email address, or other personal identifying information in your comment, be advised that your entire comment—including your personal identifying information—may be made publicly available at any time. While you can ask in your comment to withhold from public review your personal identifying information, we cannot guarantee that we will be able to do so.

Background

The BLM establishes supplementary rules under the authority of 43 CFR 8365.1-6, which allows the BLM State Directors to establish such rules for the protection of persons, property, and public lands and resources. This regulation allows the BLM to issue rules of less than national effect without codifying the rules in the Code of Federal Regulations.

Discussion of the Supplementary Rules

The Lander RMP identified areas as closed to motorized and/or mechanized travel and areas limited to designated routes and seasonal travel. The Lander RMP process included a Federal Register Notice of Intent to Prepare an Environmental Impact Statement and Land Use Plan Amendment dated February 13, 2007 (72 FR 6740), a Notice of Availability of the Draft Environmental Impact Statement dated September 9, 2011 (76 FR 55939), and a Notice of Availability of the Final Environmental Impact Statement dated February 22, 2013 (78 FR 12347). All of these documents are available at: http://www.blm.gov/wy/st/en/programs/Planning/rmps/lander/docs.html.

The proposed supplementary rules are consistent with the decision record for the Lander RMP. These proposed supplementary rules would assist in the BLM's implementation of the Lander RMP's travel management decisions by restricting travel activities in the manner and areas identified in the Lander RMP. They would prohibit travel, and operation or possession of a mechanized or motorized vehicle, in areas designated as closed in the Lander RMP. Exemptions from the proposed supplementary rules would include vehicles used for handicapped accessibility, vehicles used by disabled hunters and their companions possessing the pertinent State permit, and areas with limited travel designations.

Procedural Matters

Executive Order 12866, Regulatory Planning and Review

These proposed supplementary rules are not a significant regulatory action and are not subject to review by the Office of Management and Budget under Executive Order 12866. The proposed supplementary rules would not have an annual effect of $100 million or more on the economy. They are not intended to affect commercial activity. For public safety and resource protection reasons, they merely impose rules on travel in a limited area of public lands. The supplementary rules would not adversely affect, in a material way, the economy, productivity, competition, jobs, the environment, public health or safety, or State, local, or tribal Governments or communities. The proposed supplementary rules would not create a serious inconsistency or otherwise interfere with an action taken or planned by another agency. The proposed supplementary rules would not materially alter the budgetary effects of entitlements, grants, user fees, or loan programs or the right or obligations of their recipients, nor do they raise novel legal or policy issues. They merely protect public safety and the environment.

Clarity of the Rules

Executive Order 12866 requires each agency to write regulations that are simple and easy to understand. The BLM invites your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the proposed supplementary rules be easier to understand if they were divided into more (but shorter) sections?

(5) Is the description of the proposed supplementary rules in the SUPPLEMENTARY INFORMATION section of this preamble helpful in understanding the proposed supplementary rules? How could this description be more helpful in making the proposed supplementary rules easier to understand?

Please send any comments you may have on the clarity of the proposed supplementary rules to one of the addresses specified in the ADDRESSES section.

National Environmental Policy Act

As documented in the Record of Decision for the Lander RMP, the Lander RMP process included opportunities for public comment in a Federal Register Notice of Intent to Prepare an Environmental Impact Statement and Land Use Plan Amendment dated February 13, 2007 (72 FR 6740), a Notice of Availability of the Draft Environmental Impact Statement dated September 9, 2011 (76 FR 55939), and a Notice of Availability of the Final Environmental Impact Statement dated February 22, 2013 (78 FR 12347). All of these documents are available at: http://www.blm.gov/wy/st/en/programs/Planning/rmps/lander/docs.html.

Regulatory Flexibility Act

Congress enacted the Regulatory Flexibility Act (RFA), 5 U.S.C. 601-612, to ensure that Government regulations do not unnecessarily or disproportionately burden small entities. The RFA requires a regulatory flexibility analysis if a rule would have a significant economic impact, either detrimental or beneficial, on a substantial number of small entities. The proposed supplementary rules do not pertain specifically to commercial or governmental entities of any size, but to travel on specific public lands. Therefore, the BLM has determined under the RFA that the proposed supplementary rules would not have a significant economic impact on a substantial number of small entities.

Small Business Regulatory Enforcement Fairness Act

These proposed supplementary rules do not constitute a “major rule” as defined at 5 U.S.C. 804(2). The proposed supplementary rules merely contain rules of conduct for travel on or across certain public lands. The proposed supplementary rules would not affect business, commercial, or industrial use of the public lands.

Unfunded Mandates Reform Act

The proposed supplementary rules would not impose an unfunded mandate on State, local, or tribal Governments in the aggregate, or the private sector, of more than $100 million per year; nor would they have a significant or unique effect on small governments. These proposed supplementary rules do not require anything of State, local, or tribal Governments. Therefore, the BLM is not required to prepare a statement containing the information required by the Unfunded Mandates Reform Act, 2 U.S.C. 1531 et seq.

Executive Order 12630, Governmental Actions and Interference With Constitutionally Protected Property Rights (Takings)

The proposed supplementary rules are not a Government action capable of interfering with constitutionally protected property rights. The proposed supplementary rules do not address property rights in any form and do not cause the impairment of anybody's property rights. Therefore, the BLM has determined that these proposed supplementary rules would not cause a taking of private property or require further discussion of takings implications under this Executive Order.

Executive Order 13132, Federalism

The proposed supplementary rules would not have a substantial direct effect on the states, on the relationship between the National Government and the states, or on the distribution of power and responsibilities among the various levels of Government. The proposed supplementary rules apply on a limited area of land in only one State, Wyoming. Therefore, the BLM has determined that the proposed supplementary rules do not have sufficient Federalism implications to warrant preparation of a Federalism assessment.

Executive Order 12988, Civil Justice Reform

Under Executive Order 12988, the BLM has determined that the proposed supplementary rules would not unduly burden the judicial system and that the requirements of sections 3(a) and 3(b)(2) of the Order are met. The proposed supplementary rules would merely regulate travel on or across certain public lands to protect public safety and the environment.

Executive Order 13175, Consultation and Coordination With Indian Tribal Governments

In accordance with Executive Order 13175, the BLM has found that these proposed supplementary rules do not include policies that have tribal implications. The proposed supplementary rules do not affect lands held for the benefit of Indians, Aleuts, or Eskimos.

Paperwork Reduction Act

These proposed supplementary rules do not contain information collection requirements that the Office of Management and Budget must approve under the Paperwork Reduction Act, 44 U.S.C. 3501 et seq.

Executive Order 13211, Actions Concerning Regulations That Significantly Affect Energy Supply, Distribution, or Use

These proposed supplementary rules do not comprise a significant energy action. The supplementary rules would not have an adverse effect on energy supplies, production, or consumption. They only address travel on or across certain public lands to protect public safety and the environment, and have no connection with energy policy.

Author

The principal author of the proposed supplementary rules is Kristin Yannone, Planner, at the BLM Lander Field Office,

For the reasons stated in the preamble, and under the authority for supplementary rules at 43 U.S.C. 1740 and 43 CFR 8365.1-6, the Wyoming Acting State Director, Bureau of Land Management, proposes to issue these supplementary rules for public lands managed by the BLM Field Office in Lander, Wyoming, to read as follows:

Supplementary Rules

Definitions

Area designated as closed means an area in which travel or a type of travel is prohibited year-round.

Designated travel routes means roads and trails open to specified modes of travel and identified on: (1) A BLM sign or (2) a map of designated roads and trails that is maintained and available for public inspection at the BLM Lander Field Office, Wyoming. Designated travel routes are open to public use in accordance with such limits and restrictions as are specified in the 2014 Lander RMP, in future decisions implementing the 2014 Lander RMP, or in these supplementary rules. This definition excludes any road or trail that is subject to BLM prohibitions that prevent use of the road or trail.

Mechanized vehicle means a mode of transportation, such as a bicycle, that is not powered by a motor.

Motorized vehicle means a motor- or engine-powered device, such as a car, truck, off-highway vehicle, motorcycle, or snowmobile, upon which a person or persons may ride on land.

Prohibited Acts

1. You must not operate or possess a mechanized or motorized vehicle in an area designated as closed by the 2014 Lander RMP and marked as such by a BLM sign or map.

2. You must not travel on or across BLM lands within the Lander Field Office designated as closed to all travel by the 2014 Lander RMP and marked as such by a BLM sign or map.

3. You must not operate or possess a mechanized or motorized vehicle except within designated travel routes identified for such use by the 2014 Lander RMP or a subsequent travel management plan implementing the 2014 Lander RMP, and as marked by a BLM sign or map.

Exemptions

These supplementary rules do not apply to:

• Emergency, law enforcement, and Federal or other government vehicles while being used for official or emergency purposes, or to any other vehicle that is expressly authorized or otherwise officially approved by the BLM;

• Areas, as identified on a BLM sign or map, with limited travel designations, including but not limited to: The time or season of travel, numbers or types of conveyances, permits or licenses, use of existing roads and trails, and use of designated roads and trails;

• Motorized or non-motorized wheelchairs or other types of equipment used for handicapped accessibility; and

• Motorized or mechanized vehicles used by individuals possessing a valid disabled-hunter permit or disabled-hunter companion permit from the Wyoming Game and Fish Department in all areas except those closed to motorized travel.

Enforcement

Any person who violates any of these supplementary rules may be tried before a United States Magistrate and fined in accordance with 18 U.S.C. 3571, imprisoned no more than 12 months under 43 U.S.C. 1733(a) and 43 CFR 8360.0-7, or both. In accordance with 43 CFR 8305.1-7, State or local officials may also impose penalties for violations of Wyoming law.

Mary Jo Rugwell,
Bureau of Land Management, Wyoming State Director.

[FR Doc. 2016-21777 Filed 9-8-16; 8:45 am]

BILLING CODE 4310-22-P